CONSUMER PRODUCT SAFETY COMMISSION

Sunshine Act Meetings

FEDERAL REGISTER CITATION OF PREVIOUS ANNOUNCEMENT: Vol. 79, No. 20, Thursday, January 29, 2014, page 4885.

ANNOUNCED DATE AND TIME OF OPEN MEETING: Wednesday, February 5, 2014, 9 a.m.-11 a.m.

CHANGES TO ANNOUNCED DATE AND TIME: Thursday, February 6, 2014, 1:30 p.m.-2:30 p.m.

MATTER TO BE CONSIDERED: Briefing Matter—Infant Stroller Final Rule (Sec. 104).

For a recorded message containing the latest agenda information, call (301) 504-7948.

CONTACT PERSON FOR ADDITIONAL INFORMATION: Todd A. Stevenson, Office of the Secretary, 4330 East West Highway, Bethesda, MD 20814, (301) 504-7923.

Dated: February 4, 2014.
Todd A. Stevenson,
Secretary.

[FR Doc. 2014-02681 Filed 2-4-14; 4:15 pm]

BILLING CODE 6355-01-P